DEPARTMENT OF TRANSPORTATION

Pipeline and Hazardous Materials Safety Administration

[Docket No. PHMSA-2007-28505]

Pipeline Safety: Special Permits Granted

AGENCY: Pipeline and Hazardous Materials Safety Administration (PHMSA); DOT.

ACTION: Notice.

SUMMARY: This notice provides a list of the special permits PHMSA granted in calendar year 2007.

SUPPLEMENTARY INFORMATION: The Federal pipeline safety laws in 49 U.S.C. 60118(c)(1) allow a pipeline operator to request and PHMSA to waive compliance with any part of the Federal pipeline safety regulations. A special permit is the name PHMSA uses for a decision granting a pipeline operator's request for waiver. Before granting a special permit, PHMSA publishes a notice seeking public comment on the request in the Federal Register. The docket IDs in the list below refer to dockets established for each request for waiver in the Federal Docket Management System (FDMS) located on the internet at http://www.Regulations.gov.

The FDMS allows Federal agencies to post rulemaking and non-rulemaking documents in dockets. It serves as a one-stop source to allow anyone to find, view or comment on all Federal regulations and related materials. The initial requests by the operators, supplemental written materials, relevant Federal Register notices, public comments, special permit analyses, and the decision granting the special permits are located in the applicable dockets in the FDMS on the http://www.Regulations.gov Web site. You can find a docket by using the search function. Simply type in the complete docket number in the search address box and hit “go” or hit enter on your keyboard.

The PHMSA granted the following special permits in calendar year 2007:

Docket ID | Requester | Regulation(s) | Nature of waiver
PHMSA-2006-25734 | Freeport LNG | 49 CFR 193.2301 | To authorize the use of ultrasonic testing to inspect Liquefied Natural Gas (LNG) tank welds.
PHMSA-2006-25735 | Sabine Pass LNG | 49 CFR 193.2301 | To authorize the use of ultrasonic testing to inspect LNG tank welds.
PHMSA-2006-25803 | Kinder Morgan Louisiana Pipeline (KMLP) | 49 CFR 192.111 & 192.201(a)(2)(i) | To authorize KMLP to operate Class 1 locations along the Leg 1 segment of the new KMLP pipeline at a maximum allowable operating pressure (MAOP) corresponding to a pipe stress level up to 80% of the steel pipe's specified minimum yield strength (SMYS). The Leg 1 segment is a 42-inch, 137-mile pipeline originating at the Sabine Pass LNG terminal and extending to Evangeline Parish, LA.
PHMSA-2006-26617 | TransCanada Keystone Pipeline, LP | 49 CFR 195.106 & 195.406 | To authorize the operation of a 1,369-mile crude oil pipeline from the Canadian border near Cavalier County, ND to Payne County, OK and from Jefferson County, NE to Marion County IL at an MAOP of 80% of SMYS.
PHMSA-2006-26532 | Chesapeake Appalachia, L.L.C. (formerly Columbia Natural Resources) | 49 CFR 192.619 | To authorize Chesapeake to establish the MAOP of various segments of their gas gathering pipeline system in Kentucky and West Virginia using a five year operating history.
PHMSA-2007-27646 | Cameron LNG, LLC | 49 CFR 193.2301 | To authorize the use of automatic ultrasonic testing to inspect LNG tank welds.
PHMSA-2006-25802 | CenterPoint Energy Gas Transmission | 49 CFR 192.111, 192.201 & 192.619 | To authorize the operation of a 172-mile gas transmission pipeline from Carthage, TX to Perryville, LA at an MAOP of 80% of SMYS.
PHMSA-2006-26533 | Gulf South Pipeline | 49 CFR 192.111, 192.201 & 192.619 | To authorize the operation of certain segments of a proposed gas transmission pipeline from Carthage, TX to Harrisville, MS at an MAOP of 80% of SMYS.
PHMSA-2007-28276 | Golden Pass LNG Terminal, L.L.C. | 49 CFR 193.2301 | To authorize the use of automatic ultrasonic testing to inspect LNG tank welds.
PHMSA-2006-26613 | BP Exploration (Alaska) Inc. | 49 CFR 195.424 | To authorize the movement of certain aboveground hazardous liquid pipeline sections during routine inspection and maintenance activities without reducing the operating pressure on approximately 150 miles of hazardous liquid pipelines in the North Slope of Alaska.
PHMSA-2006-26529 | ConocoPhillips Alaska Pipeline | 49 CFR 195.424 | To authorize the movement of certain aboveground hazardous liquid pipeline sections during routine inspection and maintenance activities without reducing the operating pressure on approximately 100 miles of hazardous liquid pipelines in the North Slope of Alaska.
PHMSA-2006-26528 | Dominion Transmission, Inc. | 49 CFR 192.611 | To authorize the operation of 5,722 ft of a gas transmission pipeline between Loudon and Quantico, VA without reducing the operating pressure as a result of a change from a Class 1 to a Class 3 location.
PHMSA-2006-24058 | TransCanada Pipelines Limited, Portland Natural Gas Transmission System (PNGTS) | 49 CFR 192.611 | To authorize the operation of 7,679 ft in two segments of the PNGTS pipeline near the town of North Windham, ME, without reducing the operating pressure as a result of a change from a Class 1 to a Class 3 location.

Authority: 49 U.S.C. 60118 (c)(1) and 49 CFR 1.53.

Issued in Washington, DC on January 23, 2008.
Barbara Betsock,
Acting Director, Office of Regulations.

[FR Doc. E8-1502 Filed 1-28-08; 8:45 am]

BILLING CODE 4910-60-P